DEPARTMENT OF THE TREASURY

Internal Revenue Service

Open Meeting of the Taxpayer Advocacy Panel Joint Committee: Change

AGENCY: Internal Revenue Service (IRS) Treasury.

ACTION: Notice of meeting: Change.

SUMMARY: In the Federal Register notice that was originally published on May 8, 2018, (Volume 83, Number 89, Page 20913) the meeting date has changed. The date is changed from Wednesday, June 27, 2018 to Thursday, June 28, 2018.

DATES: The meeting will be held Thursday, June 28, 2018.

FOR FURTHER INFORMATION CONTACT: Lisa Billups at 1-888-912-1227 or (214) 413-6523.

SUPPLEMENTARY INFORMATION: Notice is hereby given pursuant to Section 10(a)(2) of the Federal Advisory Committee Act, 5 U.S.C. App. (1988) that an open meeting of the Taxpayer Advocacy Panel Joint Committee will be held Thursday, June 28, 2018, at 1:00 p.m. Eastern Time via teleconference. The public is invited to make oral comments or submit written statements for consideration. For more information please contact Lisa Billups at 1-888-912-1227 or (214) 413-6523, or write TAP Office, 1114 Commerce Street, Dallas, TX 75242-1021, or post comments to the website: http://www.improveirs.org.

The agenda will include various committee issues for submission to the IRS and other TAP related topics. Public input is welcomed.

Dated: June 6, 2018.
Kevin Brown,
Acting Director, Taxpayer Advocacy Panel.

[FR Doc. 2018-12579 Filed 6-11-18; 8:45 am]

BILLING CODE 4830-01-P